ENVIRONMENTAL PROTECTION AGENCY

[FRL-8947-1]

Gulf of Mexico Program Citizens Advisory Committee

AGENCY: Environmental Protection Agency (EPA).

ACTION: Request for Nominations to the Citizens Advisory Committee.

SUMMARY: The U.S. Environmental Protection Agency, Gulf of Mexico Program Office (Gulf Program) invites nominations from a diverse range of qualified candidates to be considered for appointment to the Citizens Advisory Committee (Committee). It is anticipated that vacancies will be filled by the end of the 2009 calendar year. Additional sources may be utilized in the solicitation of nominees.

Background: The Citizens Advisory Committee is a standing Advisory Subcommittee established by the Environmental Protection Agency (EPA) as a part of the EPA Gulf of Mexico Program under the Federal Advisory Committee Act (FACA) charter for the Policy Review Board (PRB). The function of the Citizens Advisory Committee is to provide guidance, advice, and support for the Gulf of Mexico Program. The Committee is composed of 25 members drawn from the areas of environment, business and industry, agriculture, fishing and tourism. Members of the Committee are from the Gulf Coast States of Alabama, Florida, Louisiana, Mississippi, and Texas. The Committee usually meets three times annually. Members serve on the Committee in a voluntary capacity. However, EPA provides reimbursement for travel expenses associated with attending official FACA meetings.

The Gulf Program is seeking nominations from all sectors, including academia, industry, non-governmental organizations, and State, local and tribal governments to represent Alabama in the areas of agriculture and fisheries; Florida in the areas of fisheries and business/industry; Louisiana in the areas of agriculture and fisheries; and Mississippi in the areas of agriculture, fisheries, and tourism. Nominees will be considered according to the mandates of FACA, which requires committees to maintain diversity across a broad range of constituencies, sectors, and groups.

The following criteria will be used to evaluate nominees:

• Possess a strong interest in furthering and achieving the goals and objectives of the Gulf Program.

• Willingness to assume responsibility to communicate the Gulf Program's policies/priorities with persons of their respective area.

• Serve as an advocate and voice for their respective area and report on issues of concern to the Gulf Program.

• Excellent interpersonal, oral and written communication skills.

• Extensive professional knowledge of the Gulf of Mexico, environmental policies, practices and technologies that are essential to preserving the Gulf.

Nominations must include a resume and a short biography describing the professional and educational qualifications of the nominee, as well as the nominee's current business address, e-mail addresses, and daytime telephone number. Interested candidates may self-nominate.

ADDRESSES: Submit nominations to: Gloria Car, Designated Federal Officer, Gulf of Mexico Program, Mail Code EPA/GMP, Bldg. 1100, Rm. 232, Stennis Space Center, MS 39529-6000. You may also e-mail nominations to car.gloria@epa.gov.

FOR FURTHER INFORMATION CONTACT: Gloria D. Car, Designated Federal Officer, Gulf of Mexico Program Office, Mail Code EPA/GMPO, Bldg. 1100, Rm. 232, Stennis Space Center, MS 39529-6000 at (228) 688-2421.

Dated: August 13, 2009.
Gloria D. Car,
Designated Federal Officer.

[FR Doc. E9-20037 Filed 8-19-09; 8:45 am]

BILLING CODE 6560-50-P